DEPARTMENT OF THE INTERIOR

National Park Service

Quarry Visitor Center, Record of Decision, Dinosaur National Monument, UT

AGENCY: National Park Service, Department of the Interior.

ACTION: Notice of Availability of a Record of Decision on the Final Environmental Impact Statement for the Quarry Visitor Center, Dinosaur National Monument.

SUMMARY: Pursuant to the National Environmental Policy Act of 1969, 42 U.S.C. 4332(2)(C), the National Park Service announces the availability of the Record of Decision for the Quarry Visitor Center, Dinosaur National Monument, Utah. On September 2, 2008, the Regional Director, Intermountain Region, approved the Record of Decision for the project. As soon as practicable, the National Park Service will begin to implement the Preferred Alternative contained in the FEIS issued on March 27, 2008. Five alternatives were evaluated in the environmental impact statement. These include: Alternative A, No Action—Continue Current Management; Alternative B, the Preferred Alternative—Rehabilitate or Replace the Exhibit Hall and Construct a New Facility Off-Site; Alternative C—Retain the Exhibit Hall and Construct a New Facility at the Quarry Visitor Center Site; Alternative D—Retain the Exhibit Hall and Construct Wings Similar to Existing Facility; Alternative E—Demolish the Entire Facility and Construct a New Facility at the Quarry Visitor Center Site.

The Record of Decision includes a statement of the decision made, synopses of other alternatives considered, the basis for the decision, a description of the environmentally preferable alternative, a finding of no impairment of park resources and values, a listing of measures to minimize environmental harm, and an overview of public involvement in the decision-making process.

FOR FURTHER INFORMATION CONTACT: Mary Risser, 4545 E. Highway 40, Dinosaur, CO 81610-9724 (970) 374-3001, Mary_Risser@nps.gov.

SUPPLEMENTARY INFORMATION: Copies of the Record of Decision may be obtained from the contact listed above or online at http://parkplanning.nps.gov/DINO.

Dated: March 13, 2009.
Michael D. Snyder,
Regional Director, Intermountain Region, National Park Service.

[FR Doc. E9-9787 Filed 4-28-09; 8:45 am]

BILLING CODE 4312-CR-P